FEDERAL TRADE COMMISSION

Premerger Notification; Reporting and Waiting Period Requirements

Correction

In notice document 05-4301 appearing on page 11526 in the issue of March 8, 2005, make the following correction:

On page 11526, in the first column, in the DATES section, in the second line, “April 6, 2005” should read “April 7, 2005”.

[FR Doc. C5-4301 Filed 3-21-05; 8:45 am]

BILLING CODE 1505-01-D

DEPARTMENT OF THE TREASURY

Internal Revenue Service

26 CFR Part 1

[TD 9164]

RIN 1545-BC33

Prohibited Allocations of Securities in an S Corporation

Correction

In rule document 04-27294 beginning on page 75455 in the issue of Friday, December 17, 2004, make the following corrections:

§ 1.409(p)-1T [Corrected]

1. On page 75462, in § 1.409(p)-1T(c)(3)(ii), in the first column, in the fifth line, “(d)(2)(ii)(b)” should read “(d)(2)(ii)(b)”.

2. On page 75466, in the same section, in paragraph (h), in Example 3, in paragraph (i), in the table, in the second column heading, “Present value of nonqualified deferred compensation” should read “Present value of nonqualified deferred compensation on determination date”.

3. On the same page, in the same section, in the same table, in the fourth column heading, “New shares of synthetic equity on determination” should read “New shares of synthetic equity on determination date”

4. On the same page, in the same section, in the same table, in the fifth column heading, “Aggregate number of synthetic equity shares” should read “Aggregate number of synthetic equity shares on determination date”.

5. On page 75468, in the first column, in the signature, “Mark M. Matthews” should read “Mark E. Matthews”.

[FR Doc. C4-27294 Filed 3-21-05; 8:45 am]

BILLING CODE 1505-01-D